SMALL BUSINESS ADMINISTRATION

[Declaration of Disaster #3586]

State of Ohio

As a result of the President's major disaster declaration on June 3, 2004, I find that Athens, Columbiana, Cuyahoga, Lorain, Medina, Noble, Perry and Summit Counties in the State of Ohio constitute a disaster area due to damages caused by severe storms, and flooding occurring on May 18, 2004, and continuing. Applications for loans for physical damage as a result of this disaster may be filed until the close of business on August 2, 2004, and for economic injury until the close of business on March 3, 2005, at the address listed below or other locally announced locations: U.S. Small Business Administration, Disaster Area 2 Office, One Baltimore Place, Suite 300, Atlanta, GA 30308.

In addition, applications for economic injury loans from small businesses located in the following contiguous counties may be filed until the specified date at the above location: Ashland, Belmont, Carroll, Erie, Fairfield, Geauga, Guernsey, Hocking, Huron, Jefferson, Lake, Licking, Mahoning, Meigs, Monroe, Morgan, Muskingum, Portage, Stark, Vinton, Washington and Wayne Counties in the State of Ohio; Beaver and Lawrence Counties in the Commonwealth of Pennsylvania; and Hancock and Wood Counties in the State of West Virginia.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 358606. For economic injury the number is 9ZH100 for Ohio; 9ZH200 for Pennsylvania; and 9ZH300 for West Virginia.

(Catalog of Federal Domestic Assistance Program Nos. 59002 and 59008.)
Dated: June 4, 2004.
Allan I. Hoberman,
Acting Associate Administrator for Disaster Assistance.

[FR Doc. 04-13181 Filed 6-9-04; 8:45 am]

BILLING CODE 8025-01-P